DEPARTMENT OF COMMERCE

International Trade Administration

[A-351-806]

Silicon Metal From Brazil: Rescission of Antidumping Duty Administrative Review

AGENCY: Import Administration, International Trade Administration, Department of Commerce.

ACTION: Notice of rescission of an antidumping duty administrative review.

SUMMARY: On August 22, 2003, in response to a request made by the petitioners ¹, the Department of Commerce (the Department) published a notice of initiation of an antidumping duty administrative review of silicon metal from Brazil, for the period of review (POR) July 1, 2002, through June 30, 2003. Because the petitioners have withdrawn their request for review, and there were no other requests for review for this time period, the Department is rescinding this review in accordance with 19 CFR 351.213 (d)(1).

¹ The petitioners are Elkem Metals Company and Globe Metallurgical Inc.

EFFECTIVE DATE: December 23, 2003.

FOR FURTHER INFORMATION CONTACT: Maisha Cryor, telephone: (202) 482-5831, Import Administration, International Trade Administration, U.S. Department of Commerce, Washington, DC 20230.

SUPPLEMENTARY INFORMATION:

Background

On July 2, 2003, the Department published a notice of opportunity to request an administrative review of the antidumping duty order on silicon metal from Brazil, covering the POR July 1, 2002, through June 30, 2003. See Antidumping or Countervailing Duty Order, Finding or Suspended Investigation; Opportunity to Request Administrative Review, 68 FR 39511 (July 2, 2003). On August 22, 2003, pursuant to a request made by the petitioners, the Department initiated an administrative review of Companhia Ferroligas Minas Gerais-Minasligas (Minasligas) and Companhia Brasileira Carbureto de Calcio (CBCC), both of which are subject to the antidumping duty order on silicon metal from Brazil for the POR July 1, 2002, through June 30, 2003. See Initiation of Antidumping and Countervailing Duty Administrative Reviews and Request for Revocation in Part 68 FR 50750, 50751 (August 22, 2003). On November 19, 2003, the petitioners withdrew their request for an administrative review of Minasligas.

Rescission of Review

19 CFR 351.213(d)(1) provides that a party that requests an administrative review may withdraw the request within 90 days after the date of publication of the notice of initiation of the requested administrative review. Since the notice of initiation of this administrative review was published on August 22, 2003, and the petitioners, the party requesting this administrative review, withdrew their request for review within 90 days after the date of publication of the notice of initiation, the Department is rescinding the administrative review of the antidumping duty order on silicon metal from Brazil for the period July 1, 2002, through June 30, 2003, in accordance with 19 CFR 351.213(d)(1).

Further, we are rescinding the review with respect to CBCC because, since the initiation of this current review, the Department has revoked the order in part, with respect to CBCC, effective for entries made on or after July 1, 2002. See Silicon Metal from Brazil: Final Results of Antidumping Duty Administrative Review and Revocation of Order in Part 68 FR 57670, 57671 (October 6, 2003).

This notice is in accordance with section 777(i)(1) of the Tariff Act of 1930, as amended, and 19 CFR 351.213(d)(4).

Dated: December 18, 2003.
Holly A. Kuga,
Acting Deputy Assistant Secretary for Import Administration.

[FR Doc. E3-00617 Filed 12-22-03; 8:45 am]

BILLING CODE 3510-25-U